DEPARTMENT OF HOMELAND SECURITY

Office of the Secretary

[Docket No. DHS-2008-0161]

Privacy Act of 1974; Science & Technology Directorate-002 Personnel Radiation Exposure Records System of Records

AGENCY: Privacy Office; DHS.

ACTION: Notice of Privacy Act system of records.

SUMMARY: In accordance with the Privacy Act of 1974 and as part of the Department of Homeland Security's ongoing effort to review and update legacy system of records notices, the Department of Homeland Security is giving notice that it proposes to update and reissue the following legacy record system as it related specifically to Department of Homeland Security/Directorate of Science & Technology activities, DOE-35 Personnel Radiation Exposure Records as a Department of Homeland Security system of records notice titled, Personnel Radiation Exposure Records. To the extent the Department of Energy continues to use this SORN, the Department of Homeland Security is not changing the SORN for the Department of Energy. Categories of individuals and categories of records have been reviewed and updated, and the routine uses of this legacy system of records notice have been updated to better reflect the Department of Homeland Security/Directorate of Science & Technology personnel radiation exposure record system. This new system will be included in the Department of Homeland Security's inventory of record systems.

DATES: Written comments must be submitted on or before January 12, 2009. This new system will be effective January 12, 2009.

ADDRESSES: You may submit comments, identified by docket number DHS-2008-0161 by one of the following methods:

• Federal e-Rulemaking Portal:http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket, to read background documents, or comments received, go to http://www.regulations.gov.

FOR FURTHER INFORMATION CONTACT: For general questions please contact: Ian Rosenblum (202-254-6638), the Directorate of Science & Technology Safety, Health, Environmental, & Energy Programs Manager, the Directorate of Science & Technology. For privacy issues please contact: Hugo Teufel III (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS)/Directorate of Science & Technology (S&T) have relied on preexisting Privacy Act systems of records notices for the collection and maintenance of records that concern personnel who are exposed to radiation, uranium, transuranics, and other elements encountered in the nuclear industry.

As part of its efforts to streamline and consolidate its record systems, DHS is updating and reissuing a system of records under the Privacy Act (5 U.S.C. 552a) that deals with personnel who are exposed to radiation, uranium, transuranics, and other elements encountered in the nuclear industry. This record system will allow DHS/S&T to collect and maintain records regarding any individuals who are exposed to radiation, uranium, transuranics, and other elements encountered in the nuclear industry. The collection and maintenance of this information will assist DHS/S&T in meeting its obligation to record any individuals who are exposed to radiation, uranium, transuranics, and other elements encountered in the nuclear industry.

In accordance with the Privacy Act of 1974 and as part of DHS's ongoing effort to review and update legacy system of records notices, DHS is giving notice that it proposes to update and reissue the following legacy record system DOE-35 Personnel Radiation Exposure Records (60 FR 33510 June 28, 1995) as a DHS/S&T system of records notice titled, Personnel Radiation Exposure Records. To the extent the Department of Energy (DOE) continues to use this SORN, DHS is not changing the SORN for DOE. Categories of individuals and categories of records have been reviewed, and the routine uses of this legacy system of records notice have been updated to better reflect the DHS/S&T personnel radiation exposure record system. This new system will be included in DHS's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and legal permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses of their records, and to assist individuals to more easily find such files within the agency. Below is the description of the Personnel Radiation Exposure Records System of Records.

In accordance with 5 U.S.C. 552a(r), DHS has provided a report of this new system of records to the Office of Management and Budget and to Congress.

System of Records: DHS/S&T-002

System name:

The Directorate of Science & Technology Personnel Radiation Exposure Records

Security classification:

Unclassified.

System location:

Records are maintained at the S&T Headquarters in Washington, DC and field offices.

Categories of individuals covered by the system:

Categories of individuals covered by this system include DHS/S&T personnel, contractor personnel, and any other persons who have access to certain DHS/S&T facilities and have been exposed to radiation.

Categories of records in the system:

Categories of records in this system include:

• Individual's name;

• Social security number;

• Date of birth;

• Gender;

• Alphanumeric code assigned as part of radiation analysis;

• Accident/investigation records

• Film badges used to measure radiation exposure;

• Dosimetry records;

• Previous employee records;

• Individual's radiation exposure record, including date(s) of exposure;

• Other records in connection with registries of uranium, transuranics, or other elements encountered in the nuclear industry.

Authority for maintenance of the system:

5 U.S.C. 301; the Federal Records Act, 44 U.S.C. 3101.

Purpose(s):

The purpose of this system is to document personnel and other individuals who are exposed to radiation, uranium, transuranics, and other elements encountered in the nuclear industry while at a DHS/S&T facility.

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice or other Federal agency conducting litigation or in proceedings before any court, adjudicative or administrative body, when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To the U.S. Navy to monitor radiation exposure of Naval and other personnel at Navy activities.

I. To the Department of Energy (DOE), States departments of labor, and industry groups to monitor radiation exposure of personnel.

J. To the Department of Defense to identify DOD and DOD-contractor personnel exposed to ionizing radiation during nuclear testing, and for conducting epidemiological studies of radiation effects on identified individuals.

K. To the National Academy of Sciences, Center for Disease Control, National Institute of Occupational Safety and Health, the Department of Health and Human Services, the National Council on Radiation Protection and Measurements, and other organizations focused on this subject matter, to conduct epidemiological studies of the effects of radiation on individuals exposed to ionizing radiation.

L. To the National Institute of Occupational Safety and Health to conduct epidemiological studies of workers at DOE's Portsmouth Gaseous Diffusion Plant in Piketon, Ohio.

M. To a court, magistrate, or administrative tribunal in the course of presenting evidence, including disclosures to opposing counsel or witnesses in the course of civil discovery, litigation, or settlement negotiations or in connection with criminal law proceedings or in response to a subpoena from a court of competent jurisdiction.

N. To appropriate Federal, State, local, tribal, or foreign governmental agencies or multilateral governmental organizations for the purpose of protecting the vital interests of data subjects or other persons, including to assist such agencies or organizations in preventing exposure to or transmission of a communicable or quarantinable disease or to combat other significant public health threats; appropriate notice will be provided of any identified health threat or risk.

O. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by name, alphanumeric code (an identifier assigned to an individual by the vendor who performs the analysis of the radiation monitor), date(s) of exposure, and social security number.

Safeguards:

These records are protected by employing a multi-layer security approach to prevent unauthorized access to sensitive data through appropriate administrative, physical, and technical safeguards. Protective strategies such as implementing physical access controls at DHS facilities; ensuring confidentiality of communications using tools such as encryption, authentication of sending parties, and compartmentalizing databases; and employing auditing software and personnel screening to ensure that all personnel with access to data are screened through background investigations commensurate with the level of access required to perform their duties. All S&T electronic records are secured in full compliance with the requirements of DHS IT Security Program Handbook. This handbook establishes a comprehensive information security program.

Retention and disposal:

S&T has submitted a proposed records retention and disposal schedule to NARA to maintain the records for seventy-five years. Health problems caused by radiation (such as cancer) can take years to manifest and can reoccur multiple times during an individual's life. Therefore, S&T will retain the records for 75 years so that, if an individual has problems they believe are attributable to radiation exposure received as a government employee, the government will have those records available and will be able to provide an accurate accounting of an individual's exposure. Until NARA approves a records retention and disposal schedule, S&T will retain the records indefinitely. Upon receiving the approved schedule, S&T will dispose of records according to NARA's instructions.

System Manager and address:

S&T Safety, Health, Environmental, & Energy Programs Manager, Mail Stop: 2100, Department of Homeland Security, 245 Murray Lane, SW., Washington, DC 20528.

Notification procedure:

Individuals seeking notification of and access to any record contained in this system of records, or seeking to contest its content, may submit a request in writing to S&T FOIA Coordinator, Mail Stop: 2100, Department of Homeland Security, 245 Murray Lane, SW., Washington, DC 20528. Specific FOIA contact information can be found at http://www.dhs.gov/foia under “contacts.”

When seeking records about yourself from this system of records or any other S&T system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the S&T may not be able to conduct an effective search, and your request may be denied due to lack of specificity or lack of compliance with applicable regulations.

Record access procedures:

See “Notification procedure” above.

Contesting record procedures:

See “Notification procedure” above.

Record source categories:

Individual, accident/incident investigations, film badges, dosimetry records, and previous employee records.

Exemptions claimed for the system:

None.

Dated: December 2, 2008.
Hugo Teufel III,
Chief Privacy Officer, Department of Homeland Security.

[FR Doc. E8-29398 Filed 12-10-08; 8:45 am]

BILLING CODE 4410-10-P